COMMITTEE FOR PURCHASE FROM PEOPLE WHO ARE BLIND OR SEVERELY DISABLED

Procurement List; Proposed Deletions

AGENCY: Committee for Purchase From People Who Are Blind or Severely Disabled.

ACTION: Proposed deletions from procurement list.

SUMMARY: The Committee is proposing to delete products and services previously furnished by nonprofit agencies employing persons who are blind or have other severe disabilities.

Comments Must Be Received on or Before: 12/21/2009.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

NSN: 7530-01-450-5414—Appointment Book Refill, 2008.

NSN: 7510-01-450-5407—Calendar Pad, Type I, 2008.

NSN: 7510-01-450-5425—Calendar Pad, Type II, 2008.

NPA: The Easter Seal Society of Western Pennsylvania, Pittsburgh, PA.

Contracting Activity: GSA/FSS OFC SUP CTR—Paper Products, New York, NY.

Services

Service Type/Location: Food Service Attendant, Rickenbacker Reserve, Redtail Building Reserve Base, 7370 Minuteman Way, Columbus, OH.

NPA: Goodwill Columbus Outsource Solutions, Columbus, OH.

Contracting Activity: Dept of the Army, XRAW7NU USPFO Activity OH ARNG, Columbus, OH.

Service Type/Location: Janitorial/Custodial, TSA Office Space: Norfolk International Airport, 2200 Norview Avenue, Norfolk, VA.

NPA: Portco, Inc., Portsmouth, VA.

Contracting Activity: GSA/PBS/R03 Richmond, VA.

Service Type/Location: Tape Cleaning, Robins Air Force Base, GA.

NPA: Epilepsy Association of Georgia, Warner Robins, GA.

Contracting Activity: Dept of the Air Force, FA8501 WR ALC PKO, Robins AFB, GA.

Service Type/Location: Parts Sorting, Defense Reutilization and Marketing Office, Robins AFB, GA.

NPA: Epilepsy Association of Georgia, Warner Robins, GA.

Contracting Activity: Defense Logistics Agency, DLA Support Services—DSS, Ft Belvoir, VA.

Barry S. Lineback,
Director, Business Operations.

[FR Doc. E9-27964 Filed 11-20-09; 8:45 am]

BILLING CODE 6353-01-P